DEPARTMENT OF DEFENSE

Department of the Navy

Notice of Availability for Donation of the Aircraft Carrier ex-RANGER (CV 61)

AGENCY: Department of the Navy, DOD.

ACTION: Notice.

SUMMARY: The Department of the Navy hereby gives notice of the availability for donation, under the authority of 10 U.S.C. 7306, of the aircraft carrier ex-RANGER (CV 61), a Forrestal Class Carrier, located at the NAVSEA Inactive Ships On-Site Maintenance Office, Bremerton, WA. Eligible recipients include: (1) Any State, Commonwealth, or possession of the United States or any municipal corporation or political subdivision thereof; (2) the District of Columbia; or (3) any organization incorporated as a non-profit entity under section 501 of the Internal Revenue Code. The transfer of a ship for donation under 10 U.S.C 7306 shall be made at no cost to the United States government. The donee will be required to maintain the ship as a static museum/memorial in a condition that is satisfactory to the Secretary of the Navy. Prospective donees must submit a comprehensive application that addresses the significant financial, technical, environmental, and curatorial responsibilities associated with donated Navy ships. Further application information can be found on the Navy Ship Donation Program Web site at www.navsea.navy.mil/ndp. All vessels currently in a donation hold status, including the ex-RANGER (CV 61), will be reviewed by the Chief of Naval Operations during the annual Ship Disposition Review (SDR) process, at which time a determination will be made whether to extend donation hold status.

FOR FURTHER INFORMATION CONTACT: Commander, Naval Sea Systems Command, ATTN: Ms. Gloria Carvalho (PMS 333G), 1333 Isaac Hull Avenue, SE., Stop 2701, Washington Navy Yard, DC 20376-2701, telephone number (202) 781-0485.

Dated: March 16, 2004.
S.K. Melancon,
Paralegal Specialist, Office of the Judge Advocate General, Alternate Federal Register Liaison Officer.

[FR Doc. 04-6281 Filed 3-19-04; 8:45 am]

BILLING CODE 3810-FF-P